DEPARTMENT OF ENERGY

Federal Energy Regulatory Commission

[Docket Nos. RP97-269-003 and RP99-249-002]

Williston Basin Interstate Pipeline Co.; Notice of Compliance Filing and Refund Report

January 24, 2001.

Take notice that on January 19, 2001, Williston Basin Interstate Pipeline Company (Williston Basin), tendered for filing with the Commission certain revised tariff sheets to Original Volume No. 2 of its FERC Gas Tariff and a Refund Report in compliance with the Commission's Orders issued October 21, 1998 and December 17, 1997, which were upheld by the United States Court of Appeals for the Eighth Circuit in an opinion issued June 27, 2000 in Case Nos. 98-4079 and 99-3554.

Williston Basin states that it has revised its Rate Schedule X-13 rate to reflect the final return on equity reflected in the Commission's Order issued November 21, 2000 in Docket Nos. RP95-364-000, et al.

Williston Basin also states that on January 29, 2001, a refund of the amount owed should be received by Northern States Power Company for the locked in period March 1, 1997 through December 31, 2000 with interest through January 19, 2001, in accordance with Section 154.501 of the Commission's Regulations.

Any person desiring to protest said filing should file a protest with the Federal Energy Regulatory Commission, 888 First Street, NE., Washington, DC 20426, in accordance with section 385.211 of the Commission's Rules and Regulations. All such protests must be filed on or before January 31, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-2545 Filed 1-29-01; 8:45 am]

BILLING CODE 6717-01-M